DEPARTMENT OF COMMERCE

National Oceanic and Atmospheric Administration

50 CFR Part 622

[Docket No. 130403320-4891-02]

RIN 0648-XE245

Fisheries of the Caribbean, Gulf of Mexico, and South Atlantic; Snapper-Grouper Resources of the South Atlantic; Trip Limit Reduction for Gag Grouper

AGENCY: National Marine Fisheries Service (NMFS), National Oceanic and Atmospheric Administration (NOAA), Commerce.

ACTION: Temporary rule; trip limit reduction.

SUMMARY: NMFS reduces the commercial trip limit for gag grouper (gag) in or from the exclusive economic zone (EEZ) of the South Atlantic to 500 lb (227 kg), gutted weight. This trip limit reduction is necessary to protect the South Atlantic gag resource.

DATES: This rule is effective 12:01 a.m., local time, October 18, 2015, until 12:01 a.m., local time, January 1, 2016.

FOR FURTHER INFORMATION CONTACT: Mary Vara, NMFS Southeast Regional Office, telephone: 727-824-5305, email: mary.vara@noaa.gov.

SUPPLEMENTARY INFORMATION: The snapper-grouper fishery in the South Atlantic includes gag and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The commercial ACL (commercial quota) for gag in the South Atlantic during the 2015 fishing year is 295,459 lb (134,018 kg), gutted weight, 348,642 lb (158,141 kg), round weight, as specified in 50 CFR 622.190(a)(7)(i).

Under 50 CFR 622.191(a)(7)(ii), NMFS is required to reduce the commercial trip limit for gag from 1,000 lb (454 kg), gutted weight, 1,180 lb (535 kg), round weight, to 500 lb (227 kg), gutted weight, 590 lb (268 kg), round weight, when 75 percent of the quota is reached or is projected to be reached, by filing a notification to that effect with the Office of the Federal Register, as implemented by the final rule for Regulatory Amendment 14 to the FMP (79 FR 66316, November 7, 2014). Based on current data, NMFS has determined that 75 percent of the available gag commercial quota will be reached by October 18, 2015. Accordingly, NMFS is reducing the commercial trip limit for gag to 500 lb (227 kg), gutted weight, 590 lb (268 kg), round weight, in or from the South Atlantic EEZ at 12:01 a.m., local time, on October 18, 2015. This 500-lb (227-kg), gutted weight, 590-lb (268-kg), round weight, trip limit will remain in effect until either the commercial sector reaches its quota and the sector closes, or through the end of the current fishing year on December 31, 2015, whichever occurs first.

Classification

The Regional Administrator, Southeast Region, NMFS, has determined this temporary rule is necessary for the conservation and management of South Atlantic gag and is consistent with the Magnuson-Stevens Act and other applicable laws.

This action is taken under 50 CFR 622.191(a)(7) and is exempt from review under Executive Order 12866.

These measures are exempt from the procedures of the Regulatory Flexibility Act because the temporary rule is issued without opportunity for prior notice and comment.

This action responds to the best scientific information available. The Assistant Administrator for Fisheries, NOAA (AA), finds that the need to immediately implement this commercial trip limit reduction constitutes good cause to waive the requirements to provide prior notice and opportunity for public comment pursuant to the authority set forth in 5 U.S.C. 553(b)(B), because prior notice and opportunity for public comment on this temporary rule is unnecessary and contrary to the public interest. Such procedures are unnecessary, because the rule establishing the trip limit reduction has already been subject to notice and comment, and all that remains is to notify the public of the reduced trip limit. The procedures are contrary to the public interest, because there is a need to immediately implement this action to protect the gag resource since the capacity of the fishing fleet allows for rapid harvest of the quota. Prior notice and opportunity for public comment on this action would require time and would increase the probability that the commercial sector could exceed the quota.

For the aforementioned reasons, the AA also finds good cause to waive the 30-day delay in the effectiveness of this action under 5 U.S.C. 553(d)(3).

Authority: 16 U.S.C. 1801 et seq.

Dated: October 13, 2015.
Emily H. Menashes,
Acting Director, Office of Sustainable Fisheries, National Marine Fisheries Service.

[FR Doc. 2015-26396 Filed 10-13-15; 4:15 pm]

BILLING CODE 3510-22-P